DEPARTMENT OF COMMERCE

National Oceanic and Atmospheric Administration

RIN 0648-XC615

Supplemental Draft Environmental Impact Statement for Effects of Oil and Gas Activities in the Arctic Ocean

AGENCY: National Marine Fisheries Service (NMFS), National Oceanic and Atmospheric Administration (NOAA), Commerce.

ACTION: Extension of comment period.

SUMMARY: On March 29, 2013, notice was published in the Federal Register that NMFS had released for public comment the “Supplemental Draft Environmental Impact Statement (DEIS) for the Effects of Oil and Gas Activities in the Arctic Ocean.” Based on a written request received by NMFS, the public comment period for this DEIS has been extended by 30 days.

DATES: All comments and written statements must be postmarked no later than Thursday, June 27, 2013.

ADDRESSES: The Supplemental DEIS is available for review online at http://www.nmfs.noaa.gov/pr/permits/eis/arctic.htm. You may submit comments on this document, identified by NOAA-NMFS-2013-0054, by any of the following methods:

• Electronic Submission: Submit all electronic public comments via the Federal e-Rulemaking Portal www.regulations.gov. To submit comments via the e-Rulemaking Portal, enter NOAA-NMFS-2013-0054 in the keyword search. Locate the document you wish to comment on from the resulting list and click on the “Comment Now” icon on the right of that line.

• Mail: Office of Protected Resources, 1315 East-West Highway, Room 13115, Silver Spring, MD 20910

• Fax: (301) 713-0376, Attn: Candace Nachman

• Public Hearings: Oral and written comments will be accepted during the upcoming public meetings.

Instructions: Comments must be submitted by one of the above methods to ensure that the comments are received, documented, and considered by NMFS. Comments sent by any other method, to any other address or individual, or received after the end of the comment period, may not be considered. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous). Attachments to electronic comments will be accepted in Microsoft Word or Excel or Adobe PDF file formats only.

FOR FURTHER INFORMATION CONTACT: Candace Nachman, Jolie Harrison, or Michael Payne, Office of Protected Resources, NMFS, at (301) 427-8401.

SUPPLEMENTARY INFORMATION: Additional information on the content of the Supplemental DEIS can be found in the Notice of Availability (78 FR 19212, March 29, 2013).

Dated: April 5, 2013.
Helen M. Golde,
Acting Director, Office of Protected Resources, National Marine Fisheries Service.

[FR Doc. 2013-08365 Filed 4-9-13; 8:45 am]

BILLING CODE 3510-22-P